DEPARTMENT OF COMMERCE

Foreign-Trade Zones Board

[Docket 49-2004]

Foreign-Trade Zone 15—Kansas City, MO, Application for Subzone, Pfizer, Inc. (Pharmaceutical Products)

An application has been submitted to the Foreign-Trade Zones (FTZ) Board (the Board), by the Greater Kansas City Foreign Trade Zone, Inc., grantee of FTZ 15, requesting special-purpose subzone status for the manufacturing facilities of Pfizer, Inc. (Pfizer), in the Lee's Summit, Missouri, area, within the Kansas City Missouri Customs port of entry. The application was submitted pursuant to the provisions of the Foreign-Trade Zones Act, as amended (19 U.S.C. 81a-81u), and the regulations of the Board (15 CFR part 400). It was formally filed on October 29, 2004.

Pfizer's plant (104 acres) is located at One Pfizer Way, Lee's Summit, Jackson County, Missouri. The facility (approximately 235 employees) is used for the manufacture, processing, warehousing and distribution of pharmaceuticals, as well as for research and development activities. Pfizer will use zone procedures at the Lee's Summit plant to manufacture Revolution (TM), (HTSUS 3004.90.9103), a topical parasiticide for dogs and cats. The activity related to the manufacture of Revolution (TM) involves the use of the foreign-sourced chemicals butylated hydroxytoluene (HTSUS 2907.19.8000), hydroxylamine (HTSUS 2928.00.5000), and selamectin (HTSUS 2932.29.5050), two of which are processed at Pfizer's Groton, Connecticut facility, prior to shipment to the Lee's Summit facility. A subzone application is currently pending with the FTZ Board for Pfizer's Groton facility (Docket 45-2004). Foreign-sourced chemicals will account for most of the material value of the finished product.

Zone procedures used at Lee's Summit would exempt Pfizer from Customs duty payments on foreign input when used in production for export (some 33 percent of production). Pfizer expects that export sales will grow to account for 50 percent of production in the near future. On domestic sales, Pfizer would be able to choose the lower duty rate (duty free) that applies to the finished product, rather than the duty rate on the foreign-sourced chemicals listed above, which are dutiable at rates from 3.7 to 6.5 percent. The request indicates that the savings from utilizing FTZ procedures would help improve the plant's international competitiveness.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—Suite 4100W, 1401 Constitution Avenue, NW., Washington, DC 20230.

The closing period for their receipt is January 3, 2005. Rebuttal comments in response to material submitted during the foregoing period may be submitted during the subsequent 15-day period (to January 18, 2005).

A copy of the application and accompanying exhibits will be available during this time for public inspection at the address Number 1 listed above, and at the U.S. Department of Commerce Export Assistance Center, 2345 Grand Boulevard, Suite 650, Kansas City, MO 64108.

Dated: October 29, 2004.
Dennis Puccinelli,
Executive Secretary.

[FR Doc. 04-24654 Filed 11-3-04; 8:45 am]

BILLING CODE 3510-DS-P